ENVIRONMENTAL PROTECTION AGENCY

[FRL-9278-4]

Settlement Agreement for Recovery of Past Response Costs; 345 North 700 East, Richfield PCE Site, Richfield, Sevier County, UT

AGENCY: Environmental Protection Agency.

ACTION: Notice and request for public comment.

SUMMARY: In accordance with the requirements of section 122(i)(1) of the Comprehensive Environmental Response, Compensation, and Liability Act, as amended (CERCLA), 42 U.S.C. 9622(i)(1), notice is hereby given of a Settlement Agreement under Sections 104, 106(a), 107, and 122 of CERCLA, 42 U.S.C. 9604, 9606(a), 9607, and 9622, between the United States Environmental Protection Agency (EPA) and Jerry Thomas and Katrina Thomas (Settling Parties) regarding the Richfield PCE Site (Site), located at 345 North 700 East, Richfield, Sevier County, Utah. This Settlement Agreement proposes to compromise a claim the United States has at this Site for Past Response Costs, as those terms are defined in the Settlement Agreement. Under the terms of the Settlement Agreement, EPA and the Settling Parties agree that the Settling Parties have no ability to pay and the Settling Parties (1) agree not to assert any claims or causes of action against the United States or its contractors or employees with respect to the Site and (2) agree to record an executed environmental covenant, between Settling Parties, EPA and Utah Department of Environmental Quality, requiring certain activity and use limitations. In exchange, the Settling Parties will be granted a covenant not to sue under section 107(a) of CERCLA, 42 U.S.C. 9607(a), with regard to reimbursement of Past Response Costs.

Opportunity for Comment: For thirty (30) days following the publication of this notice, EPA will consider all comments received and may modify or withdraw its consent to that portion of the Settlement Agreement, if comments received disclose facts or considerations which indicate that the settlement is inappropriate, improper, or inadequate. EPA's response to any comments received will be available for public inspection at the Superfund Record Center, EPA Region 8, 1595 Wynkoop Street, 3rd Floor, in Denver, Colorado.

DATES: Comments must be submitted on or before April 11, 2011.

ADDRESSES: The Settlement Agreement and additional background information relating to the settlement are available for public inspection at the Regional Records Center, EPA Region 8, 1595 Wynkoop Street, 3rd Floor, in Denver, Colorado. Comments and requests for a copy of the Settlement Agreement should be addressed to Virginia G. Phillips, Enforcement Specialist (8ENF-RC), Technical Enforcement Program, U.S. Environmental Protection Agency, 1595 Wynkoop Street, Denver, Colorado 80202-1129, and should reference the Richfield PCE Site in Sevier County, Utah.

FOR FURTHER INFORMATION CONTACT: Virginia Phillips, Enforcement Specialist, (8ENF-RC), Technical Enforcement Program, U.S. Environmental Protection Agency, 1595 Wynkoop Street, Denver, Colorado 80202-1129, (303) 312-6197.

It is so agreed:
Andrew M. Gaydosh,
Assistant Regional Administrator, Office of Enforcement, Compliance and Environmental Justice, U.S. Environmental Protection Agency, Region 8.

[FR Doc. 2011-5532 Filed 3-9-11; 8:45 am]

BILLING CODE 6560-50-P